DEPARTMENT OF TRANSPORTATION

Federal Aviation Administration

14 CFR Part 71

[Docket No. FAA-2022-0546; Airspace Docket No. 22-ASW-10]

RIN 2120-AA66

Proposed Amendment of Class D and Class E Airspace; Rogers, Springdale, and Bentonville, AR

AGENCY: Federal Aviation Administration (FAA), DOT.

ACTION: Notice of proposed rulemaking (NPRM).

SUMMARY: This action proposes to amend Class D airspace and Class E surface airspace for the following Arkansas airports: Rogers Executive Airport-Carter Field (new name), Springdale Municipal Airport, and Bentonville Municipal Airport/Louise M Thaden Field (new name), as well as updating the airport's names and geographic coordinates. Controlled airspace is necessary for the safety and management of instrument flight rules (IFR) operations in the area.

DATES: Comments must be received on or before December 29, 2022.

ADDRESSES: Send comments on this proposal to: the U.S. Department of Transportation, Docket Operations, 1200 New Jersey Avenue SE, West Building Ground Floor, Room W12-140, Washington, DC 20590-0001; Telephone: (800) 647-5527, or (202) 366-9826. You must identify Docket No. FAA-2022-0546; Airspace Docket No. 22-ASW-10 at the beginning of your comments. You may also submit comments through the internet at www.regulations.gov.

FAA Order JO 7400.11G Airspace Designations and Reporting Points and subsequent amendments can be viewed online at www.faa.gov/air_traffic/publications/. For further information, contact the Airspace Policy Group, Federal Aviation Administration, 800 Independence Avenue SW, Washington, DC 20591; Telephone: (202) 267-8783.

FOR FURTHER INFORMATION CONTACT: John Fornito, Operations Support Group, Eastern Service Center, Federal Aviation Administration, 1701 Columbia Avenue, College Park, GA 30337; Telephone: (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would amend airspace in Rogers, Springdale, and Bentonville, AR, to support IFR operations in the area.

Comments Invited

Interested persons are invited to comment on this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (Docket No. FAA-2022-0546 and Airspace Docket No. 22-ASW-10) and be submitted in triplicate to DOT Docket Operations (see ADDRESSES section for the address and phone number). You may also submit comments through the internet at www.regulations.gov.

Persons wishing the FAA to acknowledge receipt of their comments on this action must submit with those comments a self-addressed stamped postcard on which the following statement is made: “Comments to FAA Docket No. FAA-2022-0546; Airspace Docket No. 22-ASW-10.” The postcard will be dated/time stamped and returned to the commenter.

All communications received before the specified closing date for comments will be considered before taking action on the proposed rule. The proposal in this document may be changed in light of the comments received. All comments submitted will be available for examination in the public docket before and after the comment closing date. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received, and any final disposition in person in the Dockets Office (see the ADDRESSES section for address and phone number) between 9:00 a.m. and 5:00 p.m., Monday through Friday, except on federal holidays. An informal docket may also be examined between 8:00 a.m. and 4:30 p.m., Monday through Friday, except for federal holidays at the office of the Eastern Service Center, Federal Aviation Administration, Room 350,1701 Columbia Avenue, College Park, GA 30337.

Availability and Summary of Documents for Incorporation by Reference

This document proposes to amend FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Proposal

The FAA proposes an amendment to 14 CFR part 71 to amend Class D airspace for Rogers Executive Airport-Carter Field (formerly Rogers Municipal/Carter Field) and Springdale Municipal Airport by updating each airport's geographic coordinates to coincide with the FAA's database. Also, Class E surface airspace would be amended for the above airports and Bentonville Municipal Airport/Louise M Thaden Field (formerly Bentonville Municipal/Louise M. Thadden Field). This action would also update the airport's names and the dividing line of the Class D airspace between Rogers Executive Airport-Carter Field with the Class E surface airspace of Bentonville Municipal Airport/Louise M Thaden Field. In addition, this action would replace the outdated terms Airport/Facility Directory with the term Chart Supplement and Notice to Airmen with the term Notice to Air Missions in the airspace descriptions.

Class D and E airspace designations are published in Paragraphs 5000 and 6002, respectively, of FAA Order JO 7400.11G, dated August 19, 2022, and effective September 15, 2022, which is incorporated by reference in 14 CFR 71.1. The Class D and E airspace designations listed in this document will subsequently be published in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

Lists of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order JO 7400.11G, Airspace Designations and Reporting Points, dated August 19, 2022, and effective September 15, 2022, is amended as follows:

Paragraph 5000 Class D Airspace.

* * * * *

ASW AR D Rogers, AR [Amended]

Rogers Executive Airport-Carter Field, AR

(Lat. 36°22′21″ N, long. 94°06′25″ W)

Razorback VOR

(Lat. 36°14′47″ N, long. 94°07′17″ W)

That airspace extends upward from the surface up to but not including 3,900 feet MSL within a 4-mile radius of Rogers Executive Airport-Carter Field and within 2.2 miles each side of the 005 ° radial of the Razorback VOR extending from the 4-miles radius to 6.0 miles south of the airport excluding that airspace west of a line (Lat. 36°24′09″ N, long. 94°10′51″ W and lat. 36°18′53″ N, long. 94°08′55″ W), and excluding the Class C airspace associated with the Northwest Arkansas Regional airport. This Class D airspace area is effective during the specific dates and times established in advance by a Notice to Air Missions. The effective date and time will, after that, be continuously published in the Chart Supplement.

ASW AR D Springdale, AR [Amended]

Springdale Municipal Airport, AR

(Lat. 36°10′35″ N, long. 94°07′09″ W)

Razorback VOR

(Lat. 36°14′47″ N, long. 94°07′17″ W)

That airspace extending upward from the surface to and including 3,900 feet MSL within a 4.1-mile radius of Springdale Municipal Airport and within 1.3 miles each side of the 358° and 178° radials of the Razorback VORTAC extending from the 4.1-mile radius to 4.6 miles north of the airport. This Class D airspace area is effective during the specific dates and times established in advance by a Notice to Air Missions. The effective date and time will, after that, be continuously published in the Chart Supplement.

Paragraph 6002 Class E Surface Airspace.

* * * * *

ASW AR E2 Rogers, AR [Amended]

Rogers Executive Airport-Carter Field, AR

(Lat. 36°22′21″ N, long. 94°06′25″ W)

Razorback VOR

(Lat. 36°14′47″ N, long. 94°07′17″ W)

That airspace extends upwards from the surface within a 4-mile radius of Rogers Executive Airport-Carter Field and within 2.2 miles on each side of the 005° radial of the Razorback VOR, extending from the 4-miles radius to 6.0 miles south of the airport, excluding that airspace west of a line (Lat. 36°24′09″ N, long. 94°10′51″ W, and lat. 36°18′53″ N, long. 94°08′55″ W). This Class E airspace area is effective during the specific dates and times established in advance by a Notice to Air Missions. The effective date and time will, after that, be continuously published in the Chart Supplement.

ASW AR E2 Springdale, AR [Amended]

Springdale Municipal Airport, AR

(Lat. 36°10′35″ N, long. 94°07′09″ W)

Razorback VORTAC

(Lat. 36°14′47″ N, long. 94°07′17″ W)

That airspace extends upwards from the surface within a 4.1-mile radius of Springdale Municipal Airport and 1.3 miles on each side of the 358° and 178° radials of the Razorback VORTAC extending from the 4.1-mile radius to 4.6 miles north of the airport. This Class E airspace area is effective during the specific dates and times established in advance by a Notice to Air Missions. The effective date and time will, after that, be continuously published in the Chart Supplement.

ASW AR E2 Bentonville, AR [Amended]

Bentonville Municipal/Louise M. Thaden Field, AR

(Lat. 36°20′43″ N, long. 94°13′10″ W)

Razorback VOR

(Lat. 36°14′47″ N, long. 94°07′17″ W)

That airspace extends upwards from the surface within a 3.9-mile radius of Bentonville Municipal Airport and within 2.2 miles on each side of the 322° radial of the Razorback VOR, extending from the 3.9-mile radius to 6 miles southeast of the airport, excluding that airspace east of a line (Lat. 36°24′09″ N, long. 94°10′51″ W, and lat. 36°18′53″ N, long. 94°08′55″ W). This Class E airspace area is effective during the specific dates and times established in advance by a Notice to Air Missions. The effective date and time will thereafter be continuously published in the Chart Supplement.

Issued in College Park, Georgia, on November 7, 2022.
Lisa Burrows,
Manager, Airspace & Procedures Team North, Eastern Service Center, Air Traffic Organization.

[FR Doc. 2022-24599 Filed 11-10-22; 8:45 am]

BILLING CODE 4910-13-P